DEPARTMENT OF ENERGY

Federal Energy Regulatory Commission

[Project No. 14286-000]

Haiwee Ridge Pumped Storage Project; Notice of Preliminary Permit Application Accepted for Filing and Soliciting Comments, Motions To Intervene, and Competing Applications

On September 14, 2011, Haiwee Ridge Hydro, LLC, California, filed an application for a preliminary permit, pursuant to section 4(f) of the Federal Power Act (FPA), proposing to study the feasibility of the Haiwee Ridge Pumped Storage Project to be located on South Haiwee reservoir, near the town of Olancha, Inyo County, California. The project would affect federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project (Alternatives A and B) would consist of the existing South Haiwee dam. The dam has operations limited due to past seismic activity. The crest of the dam is at elevation 3,766 feet above mean sea level (msl), but the water level in the reservoir is limited to a maximum elevation of 3,742 feet msl.

The applicant is studying the following alternatives:

South Haiwee Alternative A: (1) An upper reservoir formed by a 160-foot-high by 2,270-foot-long, roller-compacted concrete (RCC) dam, two saddle dams (a 35-foot-high by 680-foot-long RCC dam and a 65-foot-high by 680-foot-long RCC dam) having a total storage capacity of 15,100 acre-feet and a water surface area of 175 acres at full pool elevation of 5,050 feet msl; (2) a lower reservoir formed by the 81-foot-high by 1,555-foot-long potentially rebuilt South Haiwee dam having a total storage capacity of 46,600 acre-feet and a water surface area of 660 acres at full pool elevation of 3,756 feet msl; (3) approximately 13,150 feet of conduit connecting the upper to the lower reservoir in three different sections: A 3,000-foot-long by 18.5-foot-diameter, concrete-lined low-pressure tunnel, a 7,850-foot-long by 18.5-foot-diameter concrete-lined pressure shaft, and a 2,300-foot-long by 22.2-foot diameter tailrace; and (4) an underground powerhouse located roughly 1,500 feet east of South Haiwee reservoir at an elevation of 3,600 feet msl.

South Haiwee Alternative B: (1) An upper reservoir formed by a 210-foot-high by 1,320-foot-long, RCC dam and a 25-foot-high by 800-foot-long RCC saddle dam having a total storage capacity of 14,235 acre-feet and a water surface area of 241 acres at full pool elevation of 5,000 feet msl; (2) a lower reservoir formed by the 91-foot-high by 1,523-foot-long potentially rebuilt South Haiwee dam having a total storage capacity of 46,600 acre-feet and a water surface area of 800 acres at full pool elevation of 3,756 feet msl; (3) approximately 14,700 feet of conduit connecting the upper to the lower reservoir in three different sections: a 5,100-foot-long by 18.9-foot-diameter, concrete-lined low-pressure tunnel, a 5,600-foot-long by 18.9-foot-diameter concrete-lined pressure shaft, and a 4,000-foot-long by 22.7-foot diameter tailrace; and (4) an underground powerhouse located roughly 3,300 feet southeast of South Haiwee reservoir at an elevation of 3,580 feet msl.

New Reservoir Alternative: (1) An upper reservoir formed by a 210-foot-high by 1,320-foot-long, RCC dam having a total storage capacity of 14,235 acre-feet and a water surface area of 241 acres at full pool elevation of 5,000 feet msl; (2) a lower reservoir formed by a 60-foot-high by 10,600-foot-long RCC dam having a total storage capacity of 46,600 acre-feet and a water surface area of 800 acres at full pool elevation of 3,756 feet above msl; (3) approximately 12,500 feet of conduit connecting the upper to the lower reservoir in three different sections: a 3,750-foot-long by 17.5-foot-diameter, concrete-lined low-pressure tunnel, a 6,300-foot-long by 17.5-foot-diameter concrete-lined pressure shaft, and a 2,500-foot-long by 21-foot diameter tailrace; and (4) an underground located roughly 8,500 feet southwest of South Haiwee reservoir at an elevation of 3,400 feet msl.

All of the alternatives would consist of 4 reversible pump-turbines with a capacity of 500 megawatts (MW) (4 units x 125 MW unit). Annual energy output would be approximately 1,533,000 mega-watt-hours. Interconnection would exist at the Los Angeles Department of Water & Power's 230-kilovolt (kV) Owens George-Rinaldi transmission line via a 0.9-mile-long interconnection, or with Southern California Edison's 115-kV Control-Inyokern transmission line via a new 0.9- to 2.3-mile-long interconnection, depending on constructed option. A 70-foot-long by 280-foot-wide by 120-foot-high underground power house would be the same for all of the project alternatives.

Applicant Contact: Mr. Matthew Shapiro, Haiwee Ridge Hydro, LLC., 1210 W. Franklin St., Ste. 2, Boise, ID 83702; phone (208) 246-9925.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14286-000) in the docket number field to access the document. For assistance, contact FERC Online Support.

Dated: November 3, 2011.
Kimberly D. Bose,
Secretary.

[FR Doc. 2011-29247 Filed 11-10-11; 8:45 am]

BILLING CODE 6717-01-P